DEPARTMENT OF JUSTICE

Antitrust Division

Notice Pursuant to the National Cooperative Research and Production Act of 1993—Countering Weapons of Mass Destruction

Notice is hereby given that, on October 23, 2019, pursuant to Section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, Air Shelters USA, LLC, Pompano Beach, FL; Block MEMS, LLC, Southborough, MA; CapeSym, Inc., Natick, MA; Chemelectronics, LLC, Los Angeles, CA; CORTEK, Inc., Fredericksburg, VA; Custom Gas Solutions, LLC, Durham, NC; DeepSig Inc., Arlington, VA; Gamma Reality Inc., Richmond, CA; Government Acquisitions, Inc., Cincinnati, OH; IAS Machine, LLC, Seattle, WA; KEF Robotics, Inc., Pittsburgh, PA; Logistics Management Institute (LMI), Tysons, VA; Military Battery Systems, Inc., Denver, CO; Robotic Research, LLC, Gaithersburg, MD; SitScape, Inc., Vienna, VA; SkySafe, Inc., San Diego, CA; SRI International, St. Petersburg, FL; The University of Texas at Dallas, Richardson, TX; and Vanderbilt University Medical Center, Nashville, TN, have been added as parties to this venture.

Also, The Tauri Group, Alexandria, VA, has changed its name to Logistics Management Institute (LMI), Tysons, VA.

No other changes have been made in either the membership or planned activity of the group research project. Membership in this group research project remains open, and CWMD intends to file additional written notifications disclosing all changes in membership.

On January 31, 2018, CWMD filed its original notification pursuant to Section 6(a) of the Act. The Department of Justice published a notice in the Federal Register pursuant to Section 6(b) of the Act on March 12, 2018 (83 FR 10750).

The last notification was filed with the Department on July 24, 2019. A notice was published in the Federal Register pursuant to Section 6(b) of the Act on September 4, 2019 (84 FR 46565).

Suzanne Morris,
Chief, Premerger and Division Statistics Unit, Antitrust Division.

[FR Doc. 2019-24897 Filed 11-15-19; 8:45 am]

BILLING CODE 4410-11-P